DEPARTMENT OF COMMERCE

International Trade Administration

[C-570-068]

Forged Steel Fittings From the People's Republic of China: Final Results of Countervailing Duty Administrative Review; 2018

AGENCY: Enforcement and Compliance, International Trade Administration, Department of Commerce.

SUMMARY: The Department of Commerce (Commerce) determines that Both-Well (Taizhou) Steel Fittings, Co., Ltd. (Both-Well), a producer and/or exporter of forged steel fittings from the People's Republic of China (China), received countervailable subsidies during the period of review (POR) March 14, 2018, through December 31, 2018.

DATES: Applicable March 18, 2021.

FOR FURTHER INFORMATION CONTACT: Janae Martin or Katherine Johnson, AD/CVD Operations, Office VIII, Enforcement and Compliance, International Trade Administration, U.S. Department of Commerce, 1401 Constitution Avenue NW, Washington, DC 20230; telephone: (202) 482-0238 or (202) 482-4929, respectively.

SUPPLEMENTARY INFORMATION:

Background

Commerce published the Preliminary Results of the administrative review in the Federal Register on November 13, 2020.¹ We invited interested parties to comment on the Preliminary Results.

¹ See Forged Steel Fittings from the People's Republic of China: Preliminary Results of Countervailing Duty Administrative Review, 2018, 85 FR 72627 (November 13, 2020) (Preliminary Results), and accompanying Preliminary Decision Memorandum.

On December 18, 2020, we received a case brief from Both-Well. On December 23, 2020, we received a rebuttal brief from Bonney Forge Corporation and the United Steel, Paper and Forestry, Rubber, Manufacturing, Energy, Allied Industrial and Service Workers International Union, AFL-CIO, CLC (collectively, the petitioners). For a complete description of the events that occurred since the Preliminary Results, see the Issues and Decision Memorandum.²

² See Memorandum, “Issues and Decision Memorandum for the Final Results of the 2018 Countervailing Duty Administrative Review of Forged Steel Fitting from the People's Republic of China,” dated concurrently with, and hereby adopted by, this notice (Issues and Decision Memorandum).

Scope of the Order ³

³ See Forged Steel Fittings from the People's Republic of China: Countervailing Duty Order, 83 FR 60396 (November 26, 2018) (Order).

The product covered by the Order is forged steel fittings from China. For a complete description of the scope of the Order, see the Issues and Decision Memorandum.

Analysis of Comments Received

All issues raised in the parties' briefs are addressed in the Issues and Decision Memorandum. A list of the issues addressed is attached to this notice at Appendix I. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/. The signed Issues and Decision Memorandum and the electronic version of the Issues and Decision Memorandum are identical in content.

Changes Since the Preliminary Results

Based on our analysis of the case and rebuttal briefs and the evidence on the record, we made no changes to the Preliminary Results.

Methodology

Commerce is conducting this review in accordance with section 751(a)(1)(A) of the Tariff Act of 1930, as amended (the Act). For each of the subsidy programs found countervailable, we find that there is a subsidy, i.e., a government-provided financial contribution that gives rise to a benefit to the recipient, and that the subsidy is specific.⁴ The Issues and Decision Memorandum contains a full description of the methodology underlying Commerce's conclusions, including any determination that relied upon the use of adverse facts available pursuant to sections 776(a) and (b) of the Act.

⁴ See sections 771(5)(B) and (D) of the Act regarding financial contribution; section 771(5)(E) of the Act regarding benefit; and section 771(5A) of the Act regarding specificity.

Final Results of Administrative Review

In accordance with 19 CFR 351.221(b)(5), we calculated a final countervailable subsidy rate for Both-Well, the sole mandatory respondent in this review. For the companies subject to this review which were not selected for individual examination, we used the subsidy rate calculated for Both-Well. We find the countervailable subsidy rates for the producers/exporters under review to be as follows:

Producer/exporter | Subsidy rate (percent)
Both-Well (Taizhou) Steel Fittings, Co., Ltd. | 25.90
Non-Selected Companies Under Review ⁵ | 25.90

Assessment Rates

⁵ See Appendix II.

Pursuant to 19 CFR 351.212(b)(2), Commerce will determine, and U.S. Customs and Border Protection (CBP) shall assess, countervailing duties on all appropriate entries of subject merchandise in accordance with the final results of this review, for the above-listed companies at the applicable ad valorem assessment rates listed. Consistent with its recent notice,⁶ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁶ See Notice of Discontinuation of Policy to Issue Liquidation Instructions After 15 Days in Applicable Antidumping and Countervailing Duty Administrative Proceedings, 86 FR 3995 (January 15, 2021).

Cash Deposit Instructions

In accordance with section 751(a)(2)(C) of the Act, Commerce also intends to instruct CBP to collect cash deposits of estimated countervailing duties in the amounts shown for Both-Well on shipments of subject merchandise entered, or withdrawn from warehouse, for consumption on or after the date of publication of the final results of this administrative review. For all non-reviewed firms, we will instruct CBP to continue to collect cash deposits of estimated countervailing duties at the most recent company-specific or all-others rate applicable to the company, as appropriate. These cash deposit requirements, effective upon publication of these final results, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act.

Dated: March 10, 2021.
Christian Marsh,
Acting Assistant Secretary for Enforcement and Compliance.

Appendix I—List of Topics Discussed in the Final Decision Memorandum

I. Summary

II. Background

III. Scope of the Order

IV. Period of Review

V. Subsidies Valuation Information

VI. Use of Facts Otherwise Available

VII. Analysis of Programs

VIII. Analysis of Comments

Comment 1: Export Buyer's Credit (EBC) Program

Comment 2: Appropriate Adverse Facts Available Rate for the EBC Program

IX. Recommendation

Appendix II—Non-Selected Companies Under Review

1. Apco Pipe Fittings Co., Ltd.

2. Cixi Baicheng Hardware Tools, Ltd.

3. Dalian Guangming Pipe Fittings Co., Ltd.

4. Eaton Hydraulics (Luzhou) Co., Ltd.

5. Eaton Hydraulics (Ningbo) Co., Ltd.

6. Feiting Hi-Tech Piping Zhejiang Co., Ltd

7. Hebei Haiyuan Pipe Fittings Co., Ltd.

8. Hebei Xinyue High Pressure Flange And Pipe Fitting Co., Ltd.

9. Jiangsu Forged Pipe Fittings Co., Ltd.

10. Jiangsu Haida Pipe Fittings Group Co., Ltd.

11. Jiangyin Tianning Metal Pipe Fitting Co., Ltd.

12. Jiangyin Yangzi Fitting Co., Ltd.

13. Jinan Mech Piping Technology Co., Ltd.

14. Jining Dingguan Precision Parts Manufacturing Co., Ltd.

15. Lianfa Stainless Steel Pipes & Valves (Qingyun) Co., Ltd.

16. Luzhou City Chengrun Mechanics Co., Ltd.

17. Ningbo HongTe Industrial Co., Ltd.

18. Ningbo Long Teng Metal Manufacturing Co., Ltd.

19. Ningbo Save Technology Co., Ltd.

20. Ningbo Zhongan Forging Co., Ltd.

21. Q.C. Witness International Co., Ltd.

22. Qingdao Bestflow Industrial Co., Ltd.

23. Shanghai Lon Au Stainless Steel Materials Co., Ltd.

24. Shanghai Longnai High Pressure Pipe Fittings Co., Ltd.

25. Shanghai Tongyang Pipe Fittings Co., Ltd.

26. Shanghai Yochoic Pipefittings Co., Ltd.

27. Witness International Co., Ltd.

28. Xin Yi International Trade Co., Limited

29. Yancheng Boyue Tube Co., Ltd.

30. Yancheng Haohui Pipe Fittings Co., Ltd.

31. Yancheng Jiuwei Pipe Fittings Co., Ltd.

32. Yancheng Manda Pipe Industry Co., Ltd.

33. Yingkou Guangming Pipeline Industry Co., Ltd.

34. Yingkou Liaohe Machinery & Pipe Fittings Co., Ltd.

35. Yuyao Wanlei Pipe Fitting Manufacturing Co., Ltd.

[FR Doc. 2021-05587 Filed 3-17-21; 8:45 am]

BILLING CODE 3510-DS-P